DEPARTMENT OF COMMERCE

International Trade Administration

[A-549-807]

Certain Carbon Steel Butt-Weld Pipe Fittings From Thailand: Final Results of Antidumping Duty Administrative Review

AGENCY: Import Administration, International Trade Administration, Department of Commerce.

ACTION: Notice of final results of antidumping duty administrative review.

SUMMARY: On August 7, 2002, the Department of Commerce (the Department) published the preliminary results of administrative review of the antidumping duty (AD) order on carbon steel butt-weld pipe fittings from Thailand. This review covers one foreign producer/exporter, Thai Benkan Company, Ltd. (TBC). The period of review (POR) is July 1, 2000, through June 30, 2001. Based on our analysis of the comments received, we have made changes in the margin calculations. Therefore, the final results differ from the preliminary results. The final weighted-average dumping margin for the reviewed firm is listed below in the section entitled “Final Results of the Review.”

EFFECTIVE DATE: February 7, 2003.

FOR FURTHER INFORMATION CONTACT: Zev Primor or Tom Futtner, Antidumping/Countervailing Duty Enforcement, Office 4, Group II, Import Administration, International Trade Administration, U.S. Department of Commerce, 14th Street and Constitution Avenue, NW., Washington, DC 20230; telephone: (202) 482-4114 or 482-3814, respectively.

SUPPLEMENTARY INFORMATION:

Background

On August 7, 2002, the Department published the preliminary results of the administrative review of the AD order on carbon steel butt-weld pipe fittings from Thailand. See Certain Carbon Steel Butt-Weld Pipe Fittings from Thailand: Preliminary Results of Antidumping Duty Administrative Review, 67 FR 51178 (August 7, 2002) (Preliminary Results). The POR is July 1, 2000, through June 30, 2001; the is TBC. We conducted verification of the information submitted on the record by TBC and issued our verification report on December 9, 2002. We invited parties to comment on our preliminary results of review. On December 20, 2002, we received TBC's case brief. On January 3, 2003, we received rebuttal comments from Tube Forgings of America, Inc., one of the original petitioners in the less-than-fair-value (LTFV) investigation. No interested party requested a public hearing in this proceeding.

The Department has conducted this administrative review in accordance with section 751 of the Tariff Act of 1930, as amended (the Act).

Extension of Deadlines

Under section 751(a)(3)(A) of the Act, the Department may extend the deadline for completion of final review results if it determines that it is not practicable to complete the review within the statutory time limit. On December 3, 2002, the Department fully extended the time limit for the final results of this case to February 3, 2003 (see Notice of Extension of Time Limits for Final Results of Antidumping Duty Administrative Review, 67 FR 71935).

Scope of the Review

The product covered by this order is certain carbon steel butt-weld pipe fittings, having an inside diameter of less than 14 inches, imported in either finished or unfinished form. These formed or forged pipe fittings are used to join sections in piping systems where conditions require permanent, welded connections, as distinguished from fittings based on other fastening methods (e.g., threaded, grooved, or bolted fittings). Carbon steel pipe fittings are currently classified under subheading 7307.93.30 of the Harmonized Tariff Schedule of the United States (HTSUS). Although the HTSUS subheadings are provided for convenience and customs purposes, our written description of the scope of this proceeding is dispositive.

Verification

As provided in section 782(i) of the Act, during the week of October 28 through November 1, 2002, we conducted verification of the information provided by TBC. We used standard verification procedures including examination of relevant sales and financial records, and selection of relevant source documentation as exhibits. Our verification findings are detailed in the memorandum “Verification of the Sales Questionnaire Responses of Thai Benkan Corp., and Benkan America, Inc.—Carbon Steel Butt-Weld Pipe Fittings from Thailand—Administrative Review (2000-2001)” from Tom Futtner, Program Manager to The File, dated December 9, 2002, the public version of which is on file in the Central Records Unit, Room B099 of the Main Commerce building (CRU-Public File).

Facts Available

Section 776(a)(2) of the Act provides that if an interested party or any other person (A) withholds information that has been requested by the administering authority; (B) fails to provide such information by the deadlines for the submission of the information or in the form and manner requested, subject to subsections (c)(1) and (e) of section 782; (C) significantly impedes a proceeding under this title; or (D) provides such information but the information cannot be verified as provided in section 782(i), the administering authority shall, subject to section 782(d), use the facts otherwise available in reaching the applicable determination under this title. Because the home market sales information submitted by TBC could not be verified, the Department applied total facts available pursuant to section 776(a)(2).

Section 782(d) of the Act provides that, if the Department determines that a respondent's response to a request for information does not comply with the request, the Department shall inform the person submitting the response of the nature of the deficiency and shall, to the extent practicable, provide the person the opportunity to remedy or explain the deficiency. If that person submits further information that continues to be unsatisfactory, or this information is not submitted within the applicable time limits, the Department may, subject to section 782(e), disregard all or part of the original and subsequent responses, as appropriate.

Section 776(b) of the Act provides that, if the Department finds that an interested party “has failed to cooperate by not acting to the best of its ability to comply with a request for information,” the Department may draw an inference that is adverse to the interests of that party in selecting from among the facts otherwise available. Section 776(b)(4) states that adverse inferences may be based on information derived from the petition, the investigation or prior reviews, or any other information placed on the record.

We find that, in accordance with sections 776(a)(2)(D) and 776(b) of the Act, the use of facts available for TBC is appropriate in this instant review. As the record of this case indicates, the Department provided TBC with ample opportunity to prepare a correct and verifiable home market data set. Yet, despite numerous opportunities to provide the Department with a correct home market data set, at verification the Department discovered that TBC's information was flawed. Because TBC failed to provide a reconciliation of the reported home market sales' quantity and value to its financial statements, and its constructed value (CV) information was determined to be unreliable in the preliminary results, TBC's actions prevented the Department from establishing a reliable basis for normal value (NV) in this review. As such, the use of facts available in the final determination is warranted pursuant to section 776(a)(2)(D) of the Act.

In selecting from among the facts available, section 776(b) of the Act authorizes the Department to use an inference that is adverse to a party if the Department finds that the party has failed to cooperate by not acting to the best of its ability to comply with requests for information. The Department applies adverse facts available “to ensure that the party does not obtain a more favorable result by failing to cooperate than if it had cooperated fully.” Uruguay Round Agreements Act, Statement of Administrative Action, H.R. Doc No. 103-316, vol. 1, at 870 (1994) (SAA).

To examine whether the respondent “cooperated” by “acting to the best of its ability” under section 776(b) of the Act, the Department considers, among other things, the accuracy and completeness of submitted information and whether the respondent has hindered the calculation of accurate dumping margins. See, e.g., Notice of Final Determination of Sales at Less Than Fair Value: Certain Cold-Rolled Carbon Steel Flat Products From Venezuela, 67 FR 62119 (October 3, 2002) (Steel Flat Products From Venezuela), Certain Welded Carbon Steel Pipes and Tubes From Thailand: Final Results of Antidumping Duty Administrative Review, 62 FR 53808 (October 16, 1997). In this case, TBC failed to cooperate to the best of its ability by not being adequately prepared for verification and not being able to reconcile its own home market data. Furthermore, TBC's inability to provide a reconcilable home market sales listing and its lack of preparedness for verification, has hindered the calculation of an accurate margin in this review.

It is the Department's practice to assign the highest rate from any segment of a proceeding as total adverse facts available when a respondent fails to cooperate to the best of its ability. See e.g., Stainless Steel Plate in Coils from Taiwan; Preliminary Results and Rescission in Part of Antidumping Duty Administrative Review, 67 FR 5789 (February 7, 2002) (“Consistent with Department practice in cases where a respondent fails to cooperate to the best of its ability, and in keeping with section 776(b)(3) of the Act, as adverse facts available we have applied a margin based on the highest margin from any prior segment of the proceeding * * * In this case, the highest margin from any segment of the proceeding is * * * the petition rate in the less-than-fair-value (LTFV) investigation”). Therefore, in the instant case, the Department is applying the margin of 52.60 percent to TBC for these final results. This margin was derived from the AD petition used in the LTFV investigation (see Final Determination of Sales at Less Than Fair Value: Certain Carbon Steel Butt-Weld Pipe Fittings From Thailand, 57 FR 21065 (May 18, 1992). See also Certain Carbon Steel Butt-Weld Pipe Fittings From Thailand; Final Results of the Antidumping Duty Administrative Review, 62 FR 40797, 40803 (July 30, 1997) (Review 1995-1896).

Information from prior segments of the proceeding constitutes secondary information and section 776(c) provides that the Department shall, to the extent practicable, corroborate that secondary information from independent sources reasonably at its disposal. Secondary information is described in the SAA as “[i]nformation derived from the petition that gave rise to the investigation or review, the final determination concerning the subject merchandise, or any previous review under section 751 concerning the subject merchandise.” SAA at 870. The SAA further provides that “corroborate” means that the Department will satisfy itself that the secondary information to be used has probative value (see SAA, at 870). To corroborate secondary information, the Department will, to the extent practicable, examine the reliability and relevance of the information to be used.

As part of the corroboration process, we examined the basis of the rates contained in the petition. The U.S. prices in the petition were based on publicly available prices from a Thai manufacturer selling in the United States. The normal value was based on CV. We reviewed the data submitted by the petitioner and the assumptions that petitioner made when calculating CV. The methodology was reasonable and was based on the data reasonably available to petitioner at the time. We also note that the same rate of 52.60 percent was applied as the best information available in the prior segment of this proceeding when another respondent failed to cooperate to the best of its ability. See Review 1995-1896. For purposes of this administrative review, we have reviewed the petition and the administrative record, and found no reason to believe that the reliability of this information should be called into question.

With respect to the relevance aspect of corroboration, however, the Department is required to consider information reasonably at its disposal to determine whether there are circumstances that would render a margin inappropriate. Where circumstances indicate that the selected margin is not appropriate as adverse facts available, the Department will disregard the selected margin and determine an appropriate margin (see, e.g., Fresh Cut Flowers from Mexico; Final Results of Antidumping Duty Administrative Review, 61 FR 6812, 6814 (February 22, 1996) (where the Department disregarded the highest margin as adverse facts available because the margin was unusually high since it was based on another company's uncharacteristic business expense)).

The highest margin in the history of this proceeding is 52.60 percent from the petition in the original LTFV investigation. In this review, there are no circumstances indicating that this margin is inappropriate as facts available. Therefore, for the reasons stated above, we find that the 52.60 percent rate is corroborated to the greatest extent practicable in accordance with section 776(c) of the Act.

Analysis of Comments Received

All issues raised in the case and rebuttal briefs by parties to this review are addressed in the “Issues and Decision Memorandum” (Decision Memorandum) from Bernard T. Carreau, Deputy Assistant Secretary for Import Administration, Group II, to Faryar Shirzad, Assistant Secretary for Import Administration, dated February 3, 2003, which is hereby adopted by this notice. A list of the issues which parties raised, and to which we have responded, all of which are in the Decision Memorandum, is attached to this notice as an Appendix. Parties can find a complete discussion of all issues raised in this investigation and the corresponding recommendations in this public memorandum, which is on file in CRU-Public File. In addition, a complete version of the Decision Memorandum can be accessed directly on the World Wide Web at http://ia.ita.doc.gov/frn/. The paper copy and electronic version of the Decision Memorandum are identical in content.

Final Results of the Review

As a result of this review, we determine that the following weighted-average dumping margin exists for the period July 1, 2000, through June 30, 2001:

Manufacturer/exporter | Weighted- average margin (percent)
Thai Benkan Company, Ltd | 52.60

Assessment Rate

The Department will determine, and the Customs Service shall assess, antidumping duties on all appropriate entries. For the company for whom we applied facts available, we based the assessment rate on the facts available margin percentage. The Department will issue appropriate assessment instructions directly to the Customs Service within 15 days of publication of these final results of review. We will direct Customs to assess the resulting assessment rate against the entered customs values for the subject merchandise on each of the company's entries during the review period.

Cash Deposit Requirements

The following deposit requirements will be effective upon publication of this notice of final results of administrative review for all shipments of pipe fittings from Thailand entered, or withdrawn from warehouse, for consumption on or after the date of publication, as provided by section 751(a)(1) of the Act: (1) The cash deposit rate for the reviewed company will be the rate established in the final results of this administrative review, except if the rate is less than 0.5 percent ad valorem and, therefore, de minimis, no cash deposit will be required; (2) for previously reviewed or investigated companies not listed above, the cash deposit rate will continue to be the company-specific rate published for the most recent period; (3) if the exporter is not a firm covered in this review, a prior review, or the original LTFV investigation, but the manufacturer is, the cash deposit rate will be the rate established for the most recent period for the manufacturer of the merchandise; and (4) the cash deposit rate for all other manufacturers or exporters will continue to be 39.10 percent, the “All Others” rate which is based on the LTFV investigation (57 FR 21065, May 18, 1992). These deposit requirements shall remain in effect until publication of the final results of the next administrative review.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Administrative Protective Orders

This notice also serves as the only reminder to parties subject to administrative protective orders (APOs) of their responsibility concerning the return or destruction of proprietary information disclosed under an APO in accordance with 19 CFR 351.305 of the Department's regulations. Timely written notification of the return/destruction of APO materials or conversion to judicial protective order is hereby requested. Failure to comply with the regulations and terms of an APO is a violation which is subject to sanction.

We are issuing and publishing this determination and notice in accordance with sections 751(a)(1) and 777(i) of the Act.

Dated: February 3, 2003.
Faryar Shirzad,
Assistant Secretary for Import Administration.

Appendix—Issues in Decision Memorandum Thai Benkan Company, Ltd. (TBC)

1. Application of Adverse Facts Available

2. Indirect Selling Expense Ratio

3. CEP Profit Ratio

[FR Doc. 03-3087 Filed 2-6-03; 8:45 am]

BILLING CODE 3510-DS-P